DEPARTMENT OF VETERANS AFFAIRS

38 CFR Part 4

Schedule for Rating Disabilities

CFR Correction

In Title 38 of the Code of Federal Regulations, parts 0 to 17, revised as of July 1, 2003, on page 420, § 4.114 is corrected by removing the entry for diagnostic code 7313.

[FR Doc. 04-55510 Filed 6-21-04; 8:45 am]

BILLING CODE 1505-01-D